FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the New Hire Information Collection (FR 27; 7100-0375).

DATES: Comments must be submitted on or before May 12, 2025.

ADDRESSES: You may submit comments, identified by FR 27, by any of the following methods:

• Agency Website: https://www.federalreserve.gov/. Follow the instructions for submitting comments, including attachments. Preferred method.

• Mail: Ann E. Misback, Secretary, Board of Governors of the Federal Reserve System, 20th Street and Constitution Avenue NW, Washington, DC 20551.

• Hand Delivery/Courier: Same as mailing address.

• Other Means: publiccomments@frb.gov. You must include the OMB number or the FR number in the subject line of the message.

Comments received are subject to public disclosure. In general, comments received will be made available on the Board's website at https://www.federalreserve.gov/apps/proposals/ without change and will not be modified to remove personal or business information including confidential, contact, or other identifying information. Comments should not include any information such as confidential information that would be not appropriate for public disclosure. Public comments may also be viewed electronically or in person in Room M-4365A, 2001 C St. NW, Washington, DC 20551, between 9 a.m. and 5 p.m. during Federal business weekdays.

Additionally, commenters may send a copy of their comments to the Office of Management and Budget (OMB) Desk Officer for the Federal Reserve Board, Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, nuha.elmaghrabi@frb.gov, (202) 452-3884.

SUPPLEMENTARY INFORMATION: On June 15, 1984, OMB delegated to the Board authority under the Paperwork Reduction Act (PRA) to approve and assign OMB control numbers to collections of information conducted or sponsored by the Board. In exercising this delegated authority, the Board is directed to take every reasonable step to solicit comment. In determining whether to approve a collection of information, the Board will consider all comments received from the public and other agencies.

During the comment period for this proposal, a copy of the proposed PRA OMB submission, including the draft reporting form and instructions, supporting statement (which contains more detail about the information collection and burden estimates than this notice), and other documentation, will be made available on the Board's public website at https://www.federalreserve.gov/apps/reportingforms/review or may be requested from the agency clearance officer, whose name appears above. On the page displayed at the link above, you can find the supporting information by referencing the collection identifier, FR 27. Final versions of these documents will be made available at https://www.reginfo.gov/public/do/PRAMain, if approved.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, With Revision, the Following Information Collection

Collection title: New Hire Information Collection.

Collection identifier: FR 27.

OMB control number: 7100-0375.

General description of collection: This information collection provides for the electronic collection of certain personnel information from new hires using a secure web-based portal, the New Hire Portal, before the first day of employment of a new hire. As part of the onboarding process for new hires, a Human Resources (HR) professional at the Board identifies the necessary information that must be collected from the new hire, which is dependent upon the type of hire that the person is. The types of hires include Regular Hires, which are hires who are being hired into a non-intern position and not transferring from a non-federal agency, including a Governor or Board officer; Intern Hires, which are hires being hired into an intern position; and Federal Transfers, which are hires who are transferring from another federal agency. Once the HR professional has identified the types of information that will be necessary, the new hire is sent an email asking him or her to provide the information described below through the New Hire Portal prior to their official start date.

The New Hire Portal is broken out into different sections and each section corresponds to the hardcopy forms that new employees previously filled out and provided to the Board during or after the first day of NEO. The information collection now involves a new hire electronically providing this personnel information and filling out the applicable sections of the New Hire Portal before their first day of orientation. The sections of the portal that each new hire is asked to complete electronically depend upon the type of position that the new hire has been offered at the Board.

Proposed revisions: The Board proposes to revise the FR 27 by changing the collection platform from the New Hire Portal to Workday Onboarding in June 2025, adding two new categories of hires categorized as Officers/Governors and Contingent Workers, restructuring sections into individual tasks, adding new data fields, removing data fields, and relabeling data fields. There will also be a change in the login process, as all respondents, except Contingent Workers, will be required to complete identity proofing and set up a secure account through a separate system, Login.gov, before accessing Workday Onboarding. The Designation of Beneficiary Unpaid Compensation of Deceased Employee form and Executive Death and Dismemberment Benefit for Officers and Governors questionnaire, previously not subject to PRA, will now be collected prior to a hire's first day of employment. The Board will no longer collect information for use on the FEGLI Program Designation of Beneficiary form through the New Hire Information Collection. The Board will also no longer collect information to populate the state tax form prior to the hire's start date, so it will no longer be subject to PRA. The Board will begin collecting Form I-9 (Employment Eligibility Verification) electronically through Workday Onboarding, rather than via a PDF.

Frequency: Event-generated.

Respondents: The FR 27 panel comprises individuals who are new hires to the Board but have not yet become employees.

Total estimated number of respondents: Regular Hire, 235; Intern Hire, 131; Federal Transfer, 39; Governor/Officer, 9; Contingent Worker, 637.

Estimated average hours per response: Regular Hire, 1.78; Intern Hire, 1.71; Federal Transfer, 1.95; Governor/Officer, 1.86; Contingent Worker, 1.5.

Total estimated change in burden: 1,298.

Total estimated annual burden hours: 1,691.

Board of Governors of the Federal Reserve System, March 6, 2025.
Benjamin W. McDonough,
Deputy Secretary and Ombuds of the Board.

[FR Doc. 2025-03846 Filed 3-10-25; 8:45 am]

BILLING CODE 6210-01-P